FEDERAL COMMUNICATIONS COMMISSION

[FR ID 102757]

Radio Broadcasting Services; AM or FM Proposals To Change the Community of License

AGENCY: Federal Communications Commission.

ACTION: Notice.

DATES: The agency must receive comments on or before October 31, 2022.

ADDRESSES: Federal Communications Commission, 45 L Street NE, Washington, D.C. 20554.

FOR FURTHER INFORMATION CONTACT: Rolanda F. Smith, 202-418-2054.

SUPPLEMENTARY INFORMATION: The following applicants filed AM or FM proposals to change the community of license: DESERT MOUNTAIN BROADCASTING LICENSES, LLC, KYWL(AM), Fac. ID No. 161553, FROM BOZEMAN, MT, TO BELGRADE, MT, File No: BP-20220422AAG; ZIMMER MIDWEST COMMUNICATIONS, INC., KBFL-FM, Fac. ID No. 33654, FROM BUFFALO, MO, TO FAIR GROVE, MO, File No. 0000197229; COCHISE MEDIA LICENSES LLC, KPSA-FM, Fac. ID No. 29027, FROM LORDSBURG, NM, TO MESCAL, AZ, File No. 0000196734; DELTA RADIO NETWORK, LLC, WIBT(FM), Fac. ID No. 25229, FROM GREENVILLE, MS, TO INVERNESS, MS, File No. 0000197194; EAGLE BROADCASTING LLC, WMXI(FM), Fac. ID No. 54655, FROM LAUREL, MS, TO ELLISVILLE, MS, File No. 0000197006; LOUD MEDIA LLC, WPLA(FM), Fac. ID No. 36230, FROM LA FOLLETTE, TN, TO GREENBACK, TN, File No. 0000197638; and SUTTON RADIOCASTING CORPORATION CLAYTON, WRBN(FM), Fac. ID No. 56201, FROM CLAYTON, GA, TO TOCCOA, GA, File No. 0000193534. The full text of these applications is available electronically via the Licensing and Management System (LMS), https://apps2int.fcc.gov/dataentry/public/tv/publicAppSearch.html.

Federal Communications Commission.
Nazifa Sawez,
Assistant Chief, Audio Division, Media Bureau.

[FR Doc. 2022-18956 Filed 8-31-22; 8:45 am]

BILLING CODE 6712-01-P